DEPARTMENT OF THE INTERIOR

Bureau of Land Management

[AK-040-05-1430-EQ; AA-084220]

Lease of Public Lands, Alaska

AGENCY: Bureau of Land Management (BLM), Interior.

ACTION: Notice of realty action.

SUMMARY: The Bureau of Land Management (BLM) proposes to renew a lease of approximately one acre of public land near Farewell, Alaska under the provisionsof Section 302 of the Federal Land Policy and Management Act of 1976 (FLPMA) for Mr. Dewayne G. Covey to operate trapping activities and maintain an existing cabin.

DATES: Interested parties may submit comments until October 3, 2005.

ADDRESSES: Comments must be submitted to the Anchorage Field Manager, BLM Anchorage Field Office, 6881 Abbott Loop Road, Anchorage, Alaska 99507-2599.

FOR FURTHER INFORMATION CONTACT: Dorothy J. Bonds, Realty Specialist, BLM, Anchorage Field Office at 907-267-1239.

SUPPLEMENTARY INFORMATION: This notice involves renewing a lease for continued use of public lands for Mr. Dewayne G. Covey to operate trapping activities and to maintain an existing cabin during the winter and fall seasons. This property is located approximately 8 miles west of the Farewell landing strip and 55 miles southeast of McGrath, Alaska, east of the Windy River Fork of the Kuskokwim River. The following described public land has been examined and found suitable for leasing under the provisions of section 302 of the Federal Land Policy and Management Act of 1976 (FLPMA), and 43 CFR part 2920:

Seward Meridian, Alaska

T. 28 N., R. 27 W., Sections 24 and 25.

The above land aggregates one acre.

The BLM proposes to renew a lease for the surface of approximately one acre of public land to Dewayne G. Covey of Farewell, Alaska, under a renewable twenty (20) year lease. The lease is appraised at fair market value; in addition, the lessee shall reimburse the United States for reasonable administrative and other costs incurred by the United States in processing and monitoring the lease. The terms and conditions for leases are found in 43 CFR 2920.7.

Gary Reimer,
Field Manager.

[FR Doc. 05-16307 Filed 8-16-05; 8:45 am]

BILLING CODE 4310-JA-P